SMALL BUSINESS ADMINISTRATION

[Declaration of Disaster #3345]

State of West Virginia: Amendment #1

In accordance with a notice received from the Federal Emergency Management Agency, dated June 11 2001, the above-numbered Declaration is hereby amended to include Cabell, Clay, Lincoln, Mason, McDowell, Mingo, Roane, Summers, and Wayne Counties in the State of West Virginia as disaster areas caused by flooding, severe storms, and landslides beginning on May 15, 2001 and continuing.

In addition, applications for economic injury loans from small businesses located in Braxton, Calhoun, Greenbrier, Monroe and Wirt Counties in the State of West Virginia; Buchanan in the State of Virginia; Boyd, Martin, Lawrence and Pike Counties in the State of Kentucky; and Gallia, Lawrence and Meigs Counties in the State of Ohio may be filed until the specified date at the previously designated location. Any counties contiguous to the above named primary counties and not listed here have been previously declared.

The economic injury numbers assigned are 9L8900 for Kentucky and 9L9000 for Ohio.

All other information remains the same, i.e., the deadline for filing applications for physical damage is August 2, 2001, and for loans for economic injury is March 4, 2002.

(Catalog of Federal Domestic Assistance Program Nos. 59002 and 59008)

Dated: June 12, 2001.
James E. Rivera,
Acting Associate Administrator for Disaster Assistance.

[FR Doc. 01-15452 Filed 6-19-01; 8:45 am]

BILLING CODE 8025-01-P